DEPARTMENT OF COMMERCE

National Oceanic and Atmospheric Administration

Federal Consistency Appeal by Islander East Pipeline Company From an Objection by the Connecticut Department of Environmental Protection

AGENCY: National Oceanic and Atmospheric Administration (NOAA), Department of Commerce (Commerce).

ACTION: Notice of public hearing.

SUMMARY: This notice provides information concerning a public hearing to be held by the National Oceanic and Atmospheric Administration in Connecticut. The hearing involves an administrative appeal filed with the Department of Commerce by the Islander East Pipeline Company (Consistency Appeal of islander East Pipeline Company, L.L.C.).

DATES: NOAA will conduct the hearing during the public comment period for the appeal which runs through May 8, 2003. A specific date has not yet been confirmed. Additional information concerning the hearing will be available within approximately 30 days from the publication of this announcement.

ADDRESSES: A public hearing for the Islander East administrative appeal will take place in the State of Connecticut, at a site to be determined. The location will be announced in a subsequent Federal Register notice. Comments on issues relevant to the Secretary's decision of this appeal may be submitted by e-mail to IslanderEast.comments@noaa.gov. Comments may also be sent by mail to the Office of the General Counsel for Ocean Services, National Oceanic and Atmospheric Administration, U.S. Department of Commerce, 1305 East-West Highway, Silver Spring, MD 20910. Materials from the appeal record will be available at the Internet site www.ogc.doc.gov/czma.htm and at the Office of the General Counsel for Ocean Services. Also, public filings made by the parties to the appeal will be available at the Connecticut Department of Environmental Protection, 79 Elm Street, Hartford, CT.

FOR ADDITIONAL INFORMATION CONTACT: Branden Blum, Senior Counselor, NOAA Office of the General Counsel, via email at gcos.inquiries@noaa.gov, or at (301) 713-2967, extension 186.

SUPPLEMENTARY INFORMATION: Islander East Pipeline Company, L.L.C. (Islander East) filed a notice of appeal with the Secretary of Commerce (Secretary) pursuant to the Coastal Zone Management Act of 1972 (CZMA), as amended, 16 U.S.C. 1451 et seq., asking that the Secretary override the State of Connecticut's objection to Islander East's proposed natural gas pipeline. The project would extend from an interconnection with an existing pipeline near North Haven, Connecticut, to a terminus on Long Island, New York, affecting the natural resources or land and water uses of Connecticut's coastal zone.

The National Oceanic and Atmospheric Administration, on behalf of the Secretary of Commerce, will conduct a public hearing for the Islander East appeal, at a location in the State of Connecticut. The purpose of the hearing is to obtain information relevant to issues to be decided by the Secretary in the appeal. A summary of relevant issues, as well as additional background information concerning the appeal, appears in a January 24, 2003, Federal Register announcement. See 68 FR 3513. A copy of the announcement also can be found on the Department of Commerce CZMA Consistency Appeals Web site located at http://www.ogc.doc.gov/czma.htm.

The public hearing is expected to be held during the Spring of 2003. Initial details concerning the hearing, such as the date and a specific locale, should be available within approximately 30 days from the publication of this announcement, via the Internet at the Web site address listed above and through a subsequent Federal Register notice.

Questions concerning the hearing may be sent via e-mail to gcos.inquires@noaa.gov or made by telephone to (301) 713-2967, extension 186.

[Federal Domestic Assistance Catalog No. 11.419 Coastal Zone Management Program Assistance.]
Dated: January 29, 2003.
James R. Walpole,
General Counsel.

[FR Doc. 03-2468 Filed 2-3-03; 8:45 am]

BILLING CODE 3510-08-M